DEPARTMENT OF HEALTH AND HUMAN SERVICES

Health Resources and Service Administration

Advisory Committee on Interdisciplinary, Community-Based Linkages; Notice for Request for Nominations

SUMMARY: The Health Resources and Services Administration (HRSA) is requesting nominations to fill ten upcoming vacancies on the Advisory Committee on Interdisciplinary, Community-Based Linkages (ACICBL).

Authority: 42 U.S.C. 294f, Section 756 of the PHS Act, as amended. The Advisory Committee is governed by provisions of Public Law (Pub. L.) 92-463, as amended (5 U.S.C. Appendix 2) which sets forth standards for the formation and use of advisory committees.

DATES: The Agency must receive nominations on or before March 20, 2009.

ADDRESSES: All nominations are to be submitted by mail to Joan Weiss, PhD, RN, CRNP, Designated Federal Official, ACICBL, Division of Diversity and Interdisciplinary Education, Bureau of Health Professions (BHPr), HRSA, Parklawn Building, Room 9-36, 5600 Fishers Lane, Rockville, MD 20857.

FOR FURTHER INFORMATION CONTACT: Norma J. Hatot, CAPT, Senior Program Officer, Division of Diversity and Interdisciplinary Education, Bureau of Health Professions, by e-mail nhatot@hrsa.gov or telephone at (301) 443-2681.

SUPPLEMENTARY INFORMATION: Under the authorities that established the ACICBL and the Federal Advisory Committee Act Public Law 92-463 as amended, HRSA is requesting nominations for 10 voting members.

The ACICBL provides advice and recommendations to the Secretary and to the Congress concerning policy, program development and other matters of significance related to interdisciplinary, community-based training grant programs authorized under sections 751-755, Title VII, Part D of the Public Health Service Act. The ACICBL prepares an annual report describing the activities conducted during the fiscal year, identifying findings and developing recommendations to enhance Title VII Interdisciplinary, Community-Based Training Grant Programs. The Annual Report is submitted to the Secretary of the U.S. Department of Health and Human Services, and ranking members of the Committee on Health, Education, Labor and Pensions of the Senate, and the Committee on Energy and Commerce of the House of Representatives.

The Department of Health and Human Services is requesting a total of ten nominations for voting members of the ACICBL from schools that have administered or are currently administering awards from the following programs: Allied Health; Area Health Education Centers; Chiropractic; Geriatric Academic Career Award; Geriatric Education Centers; Geriatric Training for Physicians, Dentists, and Behavioral and Mental Health Professionals; Graduate Psychology; and Podiatry. Among these nominations, students, residents, and/or fellows from these programs are encouraged to apply. The legislation governing this Committee requires a fair balance between the health professions, a broad geographic distribution and a balance of members from urban and rural areas, and the adequate representation of women and minorities. As such, the pool of appropriately qualified nominees should reflect these requirements to the degree possible.

Interested individuals may nominate multiple qualified professionals for membership to the ACICBL to allow the Secretary a diverse listing of highly qualified potential candidates. Nominees willing to serve as members of the ACICBL should not have an appearance of a conflict of interest that would preclude their participation. Potential candidates will be asked to provide detailed information concerning consultancies, research grants, or contracts to permit an evaluation of possible sources of conflicts of interest. In addition, a curriculum vitae and a statement of interest will be required of the nominee to support experience working with Title VII Interdisciplinary, Community-Based Training Grant Programs, expertise in the field, and personal desire in participating on a National Advisory Committee. Qualified candidates will be invited to serve a three year term. All nominations must be received no later than March 20, 2009.

Dated: January 21, 2009.
Alexandra Huttinger,
Director, Division of Policy Review and Coordination.

[FR Doc. E9-1739 Filed 1-27-09; 8:45 am]

BILLING CODE 4165-15-P